SMALL BUSINESS ADMINISTRATION

Declaration of Disaster #3559, Amdt. 2]

Commonwealth of Puerto Rico

In accordance with notices received from the Department of Homeland Security—Federal Emergency Management Agency, effective November 23 and December 2, 2003, the above numbered declaration is hereby amended to establish the incident period for this disaster as beginning on November 10, 2003, and continuing through November 23, 2003. This declaration is also amended to include the municipalities of Cabo Rojo, Lajas and Luquillo as disaster areas due to damages caused by severe storms, flooding, mudslides and landslides occurring on November 10, 2003, and continuing through November 23, 2003.

In addition, applications for economic injury loans from small businesses located in the contiguous municipalities Hormigueros, Mayaguez, and San German may be filed until the specified date at the previously designated location. All other municipalities contiguous to the above named primary municipalities have been previously declared.

All other information remains the same, i.e., the deadline for filing applications for physical damage is January 20, 2004, and for economic injury the deadline is August 23, 2004.

(Catalog of Federal Domestic Assistance Program Nos. 59002 and 59008.)
Dated: December 3, 2003.
Herbert L. Mitchell,
Associate Administrator for Disaster Assistance.

[FR Doc. 03-30430 Filed 12-8-03; 8:45 am]

BILLING CODE 8025-01-P